DEPARTMENT OF ENERGY

10 CFR Part 430

[EERE-2021-BT-STD-0035 and EERE-2021-BT-TP-0036]

Energy Conservation Program: Test Procedures and Energy Conservation Standards for Consumer Products; Consumer Air Cleaners; Reopening of Comment Period

AGENCY: Office of Energy Efficiency and Renewable Energy, Department of Energy.

ACTION: Request for information; reopening of public comment period.

SUMMARY: On January 25, 2022, the U.S. Department of Energy (DOE or the Department) published in the Federal Register a request for information (RFI) regarding Test Procedures and Energy Conservation Standards for Consumer Air Cleaners. On February 10, 2022, DOE received a joint comment from the Pacific Gas and Electric Company (PG&E), San Diego Gas and Electric (SDG&E), Southern California Edison (SCE), the Appliance Standards Awareness Project (ASAP), and the Association of Home Appliance Manufacturers (AHAM), (collectively, the “Joint Commenters”), requesting a 45-day extension of the public comment period for the RFI. DOE has reviewed these requests and is reopening the public comment period to allow comments to be submitted until April 10, 2022.

DATES: The comment period for the RFI published in the Federal Register on January 25, 2022 (87 FR 3702) is reopened. Written comments, data, and information are requested and will be accepted on and before April 10, 2022.

ADDRESSES: Interested persons are encouraged to submit comments using the Federal eRulemaking Portal at www.regulations.gov. Follow the instructions for submitting comments. Alternatively, interested persons may submit comments, identified by docket number EERE-2021-BT-STD-0035 and EERE-2021-BT-TP-0036, by any of the following methods:

1. Federal eRulemaking Portal: www.regulations.gov. Follow the instructions for submitting comments.

2. Email: to AirCleaners2021STD0035@ee.doe.gov or AirCleaners2021TP0036@ee.doe.gov. Include docket number EERE-2021-BT-STD-0035 and EERE-2021-BT-TP-0036 in the subject line of the message.

No telefacsimilies (“faxes”) will be accepted. For detailed instructions on submitting comments and additional information on this process, see section IV of this document.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web pages can be found at: www.regulations.gov/docket/EERE-2021-BT-TP-0036 and www.regulations.gov/docket/EERE-2021-BT-STD-0035. The docket web page contains instructions on how to access all documents, including public comments, in the docket.

FOR FURTHER INFORMATION CONTACT:

Dr. Stephanie Johnson, U.S. Department of Energy, Office of Energy Efficiency and Renewable Energy, Building Technologies Office, EE-5B, 1000 Independence Avenue SW, Washington, DC 20585-0121. Telephone: (202) 287-1943. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket, contact the Appliance and Equipment Standards Program staff at (202) 287-1445 or by email: ApplianceStandardsQuestions@ee.doe.gov.

SUPPLEMENTARY INFORMATION: On January 25, 2022, DOE published in the Federal Register a request for information (RFI) Regarding Test Procedures and Energy Conservation Standards for Consumer Air Cleaners. The RFI provided an opportunity for submitting written comments, data, and information on the proposal by February 24, 2022. 87 FR 3702 DOE is seeking comment from interested parties on the RFI.

On February 10, 2022, DOE received a comment extension request from the Joint Commenters arguing that further time is needed because they are actively engaged in a negotiation regarding the scope, test procedure, and energy efficiency standards for consumer air cleaners and are working to develop substantive comments to the RFI consistent with their discussions.¹ (Joint Commenters, No. 1 at p. 1)

¹ See www.regulations.gov/comment/EERE-2021-BT-STD-0035-0002.

DOE has reviewed the request and is reopening the comment period to allow additional time for interested parties to submit comments. The RFI was published in the Federal Register on January 25, 2022, and a 30-day comment period was provided from the date of publication. In light of the submitted request, DOE believes that additional time is warranted, and that reopening the comment period until April 10, 2022 is sufficient. Therefore, DOE is reopening the comment period until April 10, 2022.

Signing Authority

This document of the Department of Energy was signed on February 22, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 23, 2022.
Treena V. Garrett,
Federal Register Liaison Officer, U.S. Department of Energy.

[FR Doc. 2022-04188 Filed 2-28-22; 8:45 am]

BILLING CODE 6450-01-P